DEPARTMENT OF EDUCATION

Applications for New Awards; Technical Assistance and Dissemination To Improve Services and Results for Children With Disabilities—Model Demonstration Projects for English Learners With or at Risk of Having a Disability

AGENCY: Office of Special Education Programs, Department of Education.

ACTION: Notice.

Overview Information: Technical Assistance and Dissemination To Improve Services and Results for Children with Disabilities—Model Demonstration Projects for English Learners With or At Risk of Having a Disability; Notice inviting applications for new awards for fiscal year (FY) 2011.

Catalog of Federal Domestic Assistance (CFDA) Number: 84.326M.

DATES: Applications Available: August 15, 2011.

Deadline for Transmittal of Applications: September 14, 2011.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1463 and 1481(d)).

Absolute Priority: For FY 2011 and any subsequent year in which we make awards based on the list of unfunded applicants from this competition, this priority is an absolute priority. Under 34 CFR 75.105(c)(3) we consider only applications that meet this priority.

This priority is:

Model Demonstration Projects for English Learners With or At Risk of Having a Disability (84.326M).

Background:

By the year 2030, English Learners ¹ will comprise an estimated 40 percent of the K-12 student population in the United States (National Symposium on Learning Disabilities in English Language Learners, 2003). While total enrollment of students in schools has increased by 20 percent over 15 years, there has been a 160-percent growth of English Learners enrolled in schools during the same time period (National Clearinghouse for English Language Acquisition [NCELA], 2008). Some States experienced up to a 700-percent growth in the number of English Learners in their schools between 1994-1995 and 2004-2005 (Payán & Nettles, n.d.). Given this growth in the number of English Learners enrolled in schools, we expect the number of English Learners with disabilities to increase.

¹ States use the definition of Limited English Proficient (LEP) from Section 9101(25) of the Elementary and Secondary Education Act, as amended (ESEA), 20 U.S.C. 7801(25), as a basis for their definition of LEP students or English Learners. This definition is as follows:

The term “limited English proficient,” when used with respect to an individual, means an individual—(A) Who is aged 3 through 21; (B) who is enrolled or preparing to enroll in an elementary school or secondary school; (C)(i) Who was not born in the United States or whose native language is a language other than English; (ii)(I) Who is a Native American or Alaska Native, or a native resident of the outlying areas; and (II) who comes from an environment where a language other than English has had a significant impact on the individual's level of English language proficiency; or (iii) who is migratory, whose native language is a language other than English, and who comes from an environment where a language other than English is dominant; and (D) whose difficulties in speaking, reading, writing, or understanding the English language may be sufficient to deny the individual—(i) The ability to meet the State's proficient level of achievement on State assessments described in section 1111(b)(3); (ii) the ability to successfully achieve in classrooms where the language of instruction is English; or (iii) the opportunity to participate fully in society.

For purposes of this priority, the term English Learners refers to those students considered to be Limited English Proficient (LEP) students or English Learners, as those terms are defined under ESEA and in the State in which the grantee implements its model demonstration projects under this priority.

Identifying English Learners with disabilities poses unique challenges for educators. This is because of the difficulty in determining whether a student's lack of academic development in reading is due to a disability or due to English not being the student's first language. As a group, English Learners receive lower grades and have higher dropout rates compared to their non-English Learner peers (Ballantyne, Sanderman, & Levy, 2008; McCardle, MeleMcCarthy, Cutting, Leos, & D'Emilio, 2005; Nation's Report Card, 2007). Many English Learners also exhibit low vocabulary levels in English and, therefore, do not always benefit from reading comprehension and writing supports that have proven effective in improving reading achievement ² with their English-speaking counterparts (Francis, Rivera, Lesaux, Kieffer, & Rivera, 2006). While an English Learner's low vocabulary levels may be due to the fact that English is not the student's first language, educators need to evaluate whether low vocabulary levels, low reading achievement scores, or other performance measures are indicators that a child has, or is at risk of having, a disability. However, due to the difficulty in determining if an English Learner's lack of academic progress in reading is due to a disability or due to English not being the student's first language, practitioners may wait up to five years to allow an English Learner to develop language skills before assessing whether the student has a learning disability (Limbos & Geva, 2001). For English Learners with, or at risk of having, a learning disability, waiting to intervene can negatively affect their academic progress—that is, delaying the identification of a student as a student with a disability delays the delivery of special education and related services that can help the student make academic progress.

² For the purpose of this priority, when we refer to a student's “academic progress,” “reading achievement,” or “language development,” or to test score outcomes, we are referring to the student's academic progress, reading achievement, or language development, or test score outcomes in content or a focus of study that is delivered in the English language.

Therefore, local educational agencies (LEAs) face two immediate challenges: improving the reading achievement of English Learners and then appropriately identifying those English Learners with, or at risk of having, a disability. There is emerging evidence supporting the use of multi-tiered instructional frameworks that include an emphasis on progress monitoring and culturally responsive principles to assist LEAs in addressing both challenges (Zehr, 2010).

A multi-tiered instructional framework integrates assessment and intervention to maximize student achievement. With a multi-tiered instructional framework, schools screen students to identify those at risk for poor learning outcomes, monitor student progress, provide evidence-based interventions, and adjust the intensity and nature of those interventions depending on a student's responsiveness to instruction (Office of Special Education Programs, 2011). Multi-tiered instructional frameworks include a varying number of tiers (or levels) of intensity of instruction. Commonly used frameworks typically describe three tiers. The primary level includes high-quality core instruction. The secondary level includes evidence-based intervention(s) of moderate intensity. The tertiary level includes individualized intervention(s) of increased intensity for students who show minimal response to instruction at the secondary level. At all levels, attention should be on fidelity of implementation, with consideration for cultural and linguistic responsiveness and recognition of student strengths (National Center on Response to Intervention, 2011).

Progress monitoring. Progress monitoring is an important component of a multi-tiered instructional framework that includes formative assessments administered at regular intervals to inform instructional decisionmaking and to determine if the interventions are meeting the needs of students. Progress monitoring has demonstrated promise as a means for early identification of students with disabilities, particularly students with learning disabilities (Fuchs & Fuchs, 2006; Kamps & Greenwood, 2005; Shapiro, Zigmond, Wallace, & Marston, 2011; Vaughn, 2003). In addition, researchers highly recommend progress monitoring as a means for working with English Learners and for assisting struggling readers (Gersten, Compton, Connor, Dimino, Santoro, Linan-Thompson, Tilly, 2008; Gersten, Baker, Shanahan, Linan-Thompson, Collins, P., Scarcella, 2007).

Culturally-responsive principles. Culturally responsive principles promote “redesigning the learning environments” and can support the development and success of all students, including English Learners. Some examples of incorporating culturally responsive principles into learning environments include communicating high expectations to all students, incorporating students' cultural and home experiences into lessons by reshaping the curriculum to reflect students' experiences, and engaging students in activities where they can converse with one another on topics that tap into their background knowledge and experiences (Gay, 2000; King, Artiles, & Kozleski, 2010). Culturally responsive principles can be applied to progress monitoring.

In 2006, the Office of Special Education Programs (OSEP) funded model demonstration projects that identified, developed, and refined exemplars of progress monitoring. Under those previously funded model demonstration projects, OSEP required a multi-tiered instructional framework that included universal screening, progress monitoring, and instructional interventions at varying levels of intensity. In those model demonstration projects, progress monitoring within a multi-tiered framework showed evidence of effectiveness in increasing reading achievement of students with and without disabilities in classrooms where the models were implemented (Shapiro, Zigmond, Wallace, & Marston, 2011). Through this priority, we seek to support projects that will systematically implement and evaluate multi-tiered instructional frameworks, which include progress monitoring, incorporate culturally responsive principles into the learning environment, and provide reading instruction and reading interventions at varying levels of intensity to improve outcomes for English Learners with, or at risk of having, a disability.

Priority:

The purpose of this priority is to support the establishment and operation of three model demonstration projects that will adapt, refine, and evaluate multi-tiered instructional frameworks as well as their components—progress monitoring, culturally responsive principles, reading instruction, and reading interventions—to determine if and to what extent the multi-tiered instructional frameworks: (1) Help to improve reading achievement and language development for English Learners with, or at risk of having, a disability and (2) are useful in assisting educators to determine if English Learners who are experiencing reading difficulties have a disability.

To be considered for funding under this absolute priority, applicants must meet the application requirements contained in this priority. Each model demonstration project (Project) funded under this absolute priority also must meet the programmatic and administrative requirements specified in the priority.

Application Requirements. An applicant must include in its application—

(a) A logic model that depicts, at a minimum, the goals, activities, outputs, and outcomes of the proposed Project. A logic model communicates how a Project will achieve its outcomes and provides a framework for both the formative and summative evaluations of the Project to be conducted by the grantee;

Note: The following Web sites provide more information on logic models: http://www.researchutilization.org/matrix/logicmodel_resource3c.html and http://www.tadnet.org/model_and_performance.

(b) A plan to implement the activities described in the Project Activities section of this priority;

(c) A plan, linked to the proposed Project's logic model, for a formative evaluation of the proposed Project's activities. The plan must describe how the formative evaluation will use clear performance objectives to ensure continuous improvement in the operation of the proposed Project, including objective measures of progress in implementing the Project and ensuring the quality of products and services. This formative evaluation must be distinct from any independent evaluation the Department may conduct of the Project;

(d) A description of the proposed model demonstration that must include a multi-tiered instructional framework that uses progress monitoring and incorporates culturally responsive principles into the learning environment to address the needs of English Learners with, or at risk of having, a disability. In addition, a description of all other components within the multi-tiered instructional framework, including reading instruction and reading interventions provided at varying intensity levels;

(e) A description of the research evidence that supports the effectiveness of the proposed multi-tiered instructional framework as a whole, as well as each of its components;

(f) A description of the methods to be used for recruiting and selecting at least five elementary schools with kindergarten through third grade (K-3) students, of which at least 40 percent and no fewer than 100 K-3 students have been identified as English Learners. To the extent the applicant identifies in its application schools willing to participate in the applicant's model demonstration, include a description of the demographics of the student population typically served by these schools, including information about the cultural and linguistic diversity of the students enrolled in the schools;

Note: As specified in paragraph (b) of the Project Activities section of this priority, participating schools will be randomly assigned either to a pilot group or a non-pilot group. The pilot groups will be comprised of three schools that will participate in the applicant's model demonstration and the non-pilot groups will be comprised of at least two schools that do not participate in the applicant's model demonstration (see paragraphs (b)(1) and (b)(2) of the Project Activities). Final site selection will be determined in consultation with the OSEP Project Officer following the kick-off meeting. Random assignment to the pilot or non-pilot groups will be conducted by an independent entity, such as the OSEP-funded Model Demonstration Coordination Center (MDCC). Pilot schools will participate in a continuous evaluation of the applicant's model demonstration. Evaluation data from schools in the non-pilot group will be limited to available district data; and

(g) A budget for attendance at the following:

(1) A 1½-day kick-off meeting to be held in Washington, DC within 4 weeks after receipt of the award and a 1-day annual planning meeting held in Washington, DC with the OSEP Project Officer during each subsequent year of the project period. At the kick-off meeting, OSEP personnel and the grantees, in consultation with MDCC, will assign responsibilities for the literature review, outline a project data coordination plan, identify cross-project data collection instruments, and determine common evaluation questions. As part of the cross-project coordination, projects funded under this priority must collect data across common measures that may or may not be the same as those proposed by the applicant. In addition to the measures listed here, other common measures may include observations or data that provide information that can be used to describe the context of schools, classrooms, or students participating in the project, as well as schools, classrooms, or students who are not part of the project. These data will support the formative and summative evaluations of the Projects and will provide information on the contexts in which models are implemented and to determine the usefulness and generalizability of the models.

(2) A 3-day Project Directors' Conference in Washington, DC during each year of the project period.

(3) Two 2-day trips annually to attend Department briefings, Department-sponsored conferences, and other meetings, as requested by OSEP.

Project Activities. To meet the requirements of this priority, each Project, at a minimum, must conduct the following activities:

(a) During year one of the Project, collaborate with other Projects funded under this priority and prepare a literature review (a plan for this review will be discussed during the kick-off meeting described above) that synthesizes the research on policies and practices related to progress monitoring, culturally responsive principles, reading instruction, and reading interventions at varying intensity levels for English Learners with or at risk of having a disability. In conducting this literature review, the Projects must use standards that are consistent with those used by the What Works Clearinghouse and the definitions of strong and moderate evidence contained in the Notice of Final Supplemental Priorities and Definitions for Discretionary Grant Programs published in the Federal Register on December 15, 2010 (75 FR 78486). If the Projects determine that they cannot conduct the review using these standards, they must develop and use other rigorous standards. The literature review prepared under this paragraph must present the research in a format accessible to the Projects' relevant audiences, including State educational agencies (SEAs), LEAs, and schools. The literature review must be subject to external peer review and must include a summary of research on the effectiveness of multi-tiered instructional frameworks that use progress monitoring and incorporate culturally responsive principles into the learning environment and include reading instruction and reading interventions at varying intensity levels to—

(a)(1) Improve reading achievement and language development of English Learners with or at risk of having a disability; and

(2) Assist educators in determining if English Learners experiencing reading difficulties have or are at risk of having a disability.

(b) Implement, after consultation with the OSEP Project Officer and the MDCC, a random assignment design with longitudinal data collection in at least five elementary schools with grades K-3 (schools A, B, C, D, E, etc.), using the following approach:

(1) Three of the schools will be randomly assigned to a pilot group that participates in the Project's model demonstration (pilot group). School A in the pilot group will begin in year one of the project period and will implement the Project's model demonstration for at least three years. Schools B and C of the pilot group will begin implementing the Project's model demonstration in year two and will implement the model demonstration for two years.

(2) The remaining schools (schools D, E, etc.) will be assigned to a non-pilot group that will continue “business as usual” (non-pilot group) during the years the schools in the pilot group implement the Project's model demonstration.

(3) Cooperate with any Department-sponsored independent evaluation of the model demonstration by providing the Department or its contractor with district administrative records on the participating schools and their students.

(c) In grades K-3 in the three elementary schools in the pilot group, implement model demonstrations that—

(1) Use multi-tiered instructional frameworks that—

(i) Use progress monitoring and incorporate culturally responsive principles in the learning environment; and

(ii) Include reading instruction and reading interventions at varying intensity levels;

(2) Assess the usefulness of progress monitoring, culturally responsive principles, reading interventions, and reading instruction at varying intensity levels in improving reading achievement and language development of all students who participate in the Project's model demonstration;

(3) Assess the usefulness of progress monitoring and culturally responsive principles in assisting educators in determining if English Learners experiencing reading difficulties have or are at risk of having a disability; and

(4) Describe the unique characteristics of the school and the cultural and linguistic diversity of the students that may affect reading achievement and language development of the students who participate in the Project's model demonstration.

(d) In accordance with the data coordination plan for the funded projects, which will be developed at the kick-off meeting described in paragraph (g)(1) of the Application Requirements, collect formative data on the following factors:

(1) Reading achievement and language development, including trajectories of reading achievement and language development, of all students who participate in the Project's model demonstration as well as the individual and contextual factors that affect reading achievement and language development.

(2) The usefulness of progress monitoring and culturally responsive principles to assist educators in determining if English Learners experiencing reading difficulties have or are at risk of having a disability.

(3) Quality of instruction, the language of instruction, the types of academic and language support available in grades K-3 at the schools in the pilot groups.

(4) Student engagement, instructional decisionmaking (including the use of data in making instructional decisions), and classroom social climate.

(5) Estimates of the cost of implementing the model, including costs of the various components of the model;

(e) Develop a framework for educators that would provide developmental benchmarks in reading and language development and contribute to appropriate identification of English Learners with or at risk of having a disability;

(f) Provide initial and ongoing professional development to general educators, special educators, related services providers, and administrators who are implementing the model demonstration at the schools in the pilot groups. Establish a process for providing feedback to these personnel on their implementation of the components (e.g., progress monitoring, culturally responsive principles, reading instruction and reading interventions that are provided at varying intensity levels) of the instructional framework used in the model demonstration; and

(g) Implement a formative evaluation plan that includes a detailed description of the Project's model demonstration and its components, a description of the school and district characteristics required to successfully implement and continue use of the model demonstration after the end of the Project period, and the processes for collecting and analyzing—in accordance with its data coordination plan—common cross-project data related to the extent to which the Project's model demonstration—

(1) Contributes to improved English Learners' reading achievement and language development;

(2) Assists educators to determine if English Learners who are experiencing reading difficulties have a disability;

(3) Is implemented with fidelity with acceptable variations based on school contexts and the cultural and linguistic diversity of students that may affect their reading achievement and language development;

(4) Provides effective professional development to personnel implementing the model demonstration.

(h) Participate in discussions, facilitated by the MDCC, with the three projects about developing a data coordination plan, cross site data collection instruments, common evaluation questions, how to synthesize and analyze the data collection, monitor fidelity of implementation, ensure reliability of data, and foster dissemination of information.

(i) Identify methods for ongoing communication and collaboration among families, students, school staff, and project staff to support the implementation and evaluation of the model demonstration;

(j) Communicate and collaborate on an ongoing basis with Department-funded projects, including the National Center on Response to Intervention (http://rti4success.org) and the Center on Instruction (http://www.centeroninstruction.org) to share information on successful strategies and implementation challenges regarding progress monitoring, reading instruction, reading interventions, culturally responsive principles for English Learners with or at risk of having a disability;

(k) Prior to developing any new product, submit a proposal for the product to the TACC database for approval from the OSEP Project Officer. The development of new products should be consistent with the product definition and guidelines posted on the TACC Web site (http://www.tadnet.org);

(l) Maintain ongoing telephone and e-mail communication with the OSEP Project Officer and other Projects funded under this priority; and

Note: The MDCC will provide support for monthly teleconferences with all projects to discuss cross-project activities.

(m) If the Project maintains a Web site, include relevant information about the model demonstration and documents in a form that meets government or industry recognized standards for accessibility.

References

Ballantyne, K.G., Sanderman, A.R., Levy, J. (2008). Educating English language learners: Building teacher capacity. Washington, DC: National Clearinghouse for English Language Acquisition. Available from http://www.ncela.gwu.edu/practice/mainstream_teachers.htm.

Francis, D., Rivera, M., Lesaux, N., Kieffer, M., & Rivera, H. (2006). Practical guidelines for the education of English language learners: Research-Based recommendations for instruction and academic interventions. Retrieved from http://www.centeroninstruction.org/practical-guidelines-for-the-education-of-english-language-learners-research-based-recommendations-for-serving-adolescent-newcomers.

Fuchs, D. & Fuchs, L.S. (2006). New directions in research introduction to response to intervention: What, why, and how valid is it? Reading Research Quarterly, 41(1).

Gay, G. (2000). Culturally responsive teaching: Theory, research, and practice. New York: Teachers College Press.

Gersten, R., Compton, D., Connor, C.M., Dimino, J., Santoro, L., Linan-Thompson, S., and Tilly, W.D. (2008). Assisting students struggling with reading: Response to intervention and multi-tier intervention for reading in the primary grades. A practice guide. (NCEE 2009-4045). Washington, DC: National Center for Education Evaluation and Regional Assistance, Institute of Education Sciences, U.S. Department of Education. Retrieved from http://ies.ed.gov/ncee/wwc/pdf/practiceguides/rti_reading_pg_021809.pdf.

Gersten, R., Baker, S.K., Shanahan, T., Linan-Thompson, S., Collins, P., & Scarcella, R. (2007). Effective literacy and English language instruction for English learners in the elementary grades: A practice guide (NCEE 2007-4011). Washington, DC: National Center for Education Evaluation and Regional Assistance, Institute of Education Sciences, U.S. Department of Education. Retrieved from http://ies.ed.gov/ncee/wwc/pdf/practiceguides/20074011.pdf.

Kamps, D., & Greenwood, C.R. (2005). Formulating secondary-level reading interventions. Journal of Learning Disabilities, 38(6), 500-509.

King, A., Artiles, A.J., & Kozleski, E. (2010). Professional learning for culturally responsive teaching. Retrieved from http://www.equityallianceatasu.org/sites/default/files/Website_files/exemplarFINAL.pdf.

Limbos, M.M. & Geva, E. (2001). Accuracy of teacher assessments of second-language students at risk for reading disability. Journal of Learning Disabilities 34(2), 136-151.

McCardle, P., Mele-McCarthy, J., Cutting, L., Leos, K., & D'Emilio, T. (2005). Learning disabilities in English language learners: Identifying the issues. Learning Disabilities Research and Practice, 20(1), 1-5.

The Nation's Report Card, Reading Report. Retrieved from http://nationsreportcard.gov/reading_2007/r0015.asp.

National Center on Response to Intervention. Retrieved from http://rti4success.org/categorycontents/multi-level_prevention_system.

National Clearinghouse for English Language Acquisition. Elementary and secondary enrollment of ELL students in U.S., 1989-90 to 2005-2006. Retrieved from http://www.ncela.gwu.edu/files/rcd/BE021773/How_Has_The_Limited_English.pdf.

Office of Special Education Programs. Memo: A Response to Intervention (RTI) Process Cannot Be Used to Delay-Deny an Evaluation for Eligibility Under the Individuals with Disabilities Act (IDEA) to the State Directors of Education. 21 Jan. 2011.

Payán, R.M., & Nettles, M.T. (n.d.). Current state of English-language learners in the U.S. K-12 student population. Retrieved on December 21, 2010, from http://www.ets.org/Media/Conferences_and_Events/pdf/ELLsympsium/ELL_factsheet.pdf.

Shapiro, E.S., Zigmond, N., Wallace, T., & Marston D. (Eds.), (2011). Models for implementing response to intervention: Tools, outcomes, and implications. New York: Guilford Press.

Vaughn, S. (2003). How many tiers are needed for response to intervention to achieve acceptable prevention outcomes? Presented at National Research Center on Learning Disabilities RTI Symposium, Kansas City, MO. Retrieved May 14, 2010, from The National Research Center on Learning Disabilities Web site: http://www.nrcld.org/symposium2003/vaughn/vaughn.pdf.

Zehr, M. (2010). RTI said to pay off in gains for English Learners. Retrieved on March 11, 2011 from http://www.edweek.org/ew/articles/2010/01/22/19rtiells_ep.h29.html?tkn=W[YCLqVUfF0pqicVwkwTVkZdlSyTBmx7rRRb.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative agreements.

Estimated Available Funds: $1,200,000.

Contingent upon the availability of funds and the quality of applications, we may make additional awards in FY 2012 from the list of unfunded applicants from this competition.

Estimated Average Size of Award: $400,000.

Estimated Range of Awards: $375,000-$400,000.

Maximum Awards: We will reject any application that proposes a budget exceeding $400,000 for a single budget period of 12 months. The Assistant Secretary for Special Education and Rehabilitative Services may change the maximum amount through a notice published in the Federal Register.

Estimated Number of Awards: 3.

Note: The Department is not bound by any estimates in this notice.

Project Period: Up to 48 months.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address To Request Application Package: You can obtain an application package via the Internet, from the Education Publications Center (ED Pubs), or from the program office.

To obtain a copy via the Internet, use the following address: http://www.ed.gov/fund/grant/apply/grantapps/index.html. To obtain a copy from ED Pubs, write, fax, or call the following: ED Pubs, U.S. Department of Education, P.O. Box 22207, Alexandria, VA 22304. Telephone, toll free: 1-877-433-7827. Fax: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this program or competition as follows: CFDA number 84.326M.

To obtain a copy from the program office, contact the person listed under FOR FURTHER INFORMATION CONTACT in section VII of this notice.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition. Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: August 15, 2011.

Deadline for Transmittal of Applications: September 14, 2011.

Applications for grants under this competition may be submitted electronically using the Grants.gov Apply site, or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) Be designated by your organization as an Authorized Organization Representative (AOR); and (2) register yourself with Grants.gov as an AOR. Details on these steps are outlined at the following Grants.gov Web page: http://www.Grants.gov/applicants/get_registered.jsp.

7. Other Submission Requirements: Applications for grants under this competition may be submitted electronically or in paper format by mail or hand delivery.

a. Electronic Submission of Applications.

We are participating as a partner in the Governmentwide Grants.gov Apply site. Model Demonstration Projects on the Use of Progress Monitoring for English Learners (including those with disabilities) to Improve Reading Achievement and Language Development and to Support Disability Identification competition, CFDA number 84.326M, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Model Demonstration Projects on the Use of Progress Monitoring for English Learners (including those with disabilities) to Improve Reading Achievement and Language Development and to Support Disability Identification competition at http://www.Grants.gov. You must search for the downloadable application package for this program by the CFDA number. Do not include the CFDA number's alpha suffix in your search (e.g., search for 84.326, not 84.326M).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues With the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.326M), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326M), 550 12th Street, SW., Room 7041, Potomac Center Plaza, Washington, DC 20202-4260.

The Application Control Center accepts hand deliveries daily between 8:00 a.m. and 4:30:00 p.m., Washington, DC time, except Saturdays, Sundays, and Federal holidays. Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors:

In the past, the Department has had difficulty finding peer reviewers for certain competitions because so many individuals who are eligible to serve as peer reviewers have conflicts of interest. The Standing Panel requirements under IDEA also have placed additional constraints on the availability of reviewers. Therefore, the Department has determined that for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

For Further Information Contact: Dr. Grace Zamora Durán, U.S. Department of Education, 400 Maryland Avenue, SW., room 4088, Potomac Center Plaza (PCP), Washington, DC 20202-2550. Telephone: (202) 245-7328.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to this Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: August 9, 2011 .
Alexa Posny,
Assistant Secretary for Special Education and Rehabilitative Services.

[FR Doc. 2011-20698 Filed 8-12-11; 8:45 am]

BILLING CODE 4000-01-P